DEPARTMENT OF HEALTH AND HUMAN SERVICES

Centers for Disease Control and Prevention

[Program Announcement 02104]

Cooperative Agreement To Support State Assessment Initiatives: Notice of Availability of Funds; Correction

A notice announcing the availability of Fiscal Year 2002 funds to fund a Cooperative Agreement to Support State Assessment Initiatives was published in the Federal Register on June 12, 2002, Volume 67, Number 113, pages 40309-40316. The notice is amended as follows: On page 40309, second column, under number three, Community Health Assessment Practices, paragraph 2, CDC Web site should be corrected to read, “http://www.cdc.gov/od/ pgo/funding/grantmain.htm.”

Dated: June 17, 2002.
Sandra R. Manning,
Director, Procurement and Grants Office, Centers for Disease Control and Prevention.

[FR Doc. 02-15657 Filed 6-20-02; 8:45 am]

BILLING CODE 4163-18-P